NUCLEAR REGULATORY COMMISSION

[NRC-2015-0234]

Draft NUREG/CR-7209, A Compendium of Spent Fuel Transportation Package Response Analyses to Severe Fire Accident Scenarios

AGENCY: Nuclear Regulatory Commission.

ACTION: Draft NUREG/CR; request for comment.

SUMMARY: The U.S. Nuclear Regulatory Commission (NRC) is issuing for public comment draft NUREG/CR-7209, “A Compendium of Spent Fuel Transportation Package Response Analyses to Severe Fire Accident Scenarios.” This report summarizes studies of rail and truck transport accidents involving fires, relative to regulatory requirements for shipment of commercial spent nuclear fuel (SNF).

DATES: Submit comments by March 28, 2016. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2015-0234. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Jimmy Chang, Office of Nuclear Material Safety and Safeguards; U.S. Nuclear Regulatory Commission, Washington, DC 20005-000; telephone: 301- 415-7427; email: jimmy.chang@nrc.gov.

SUPPLEMENTARY INFORMATION:

I. Obtaining Information and Submitting Comments

A. Obtaining Information

Please refer to Docket ID NRC-2015-0234 when contacting the NRC about the availability of information for this action. You may obtain publicly-available information related to this action by any of the following methods:

• Federal rulemaking Web site: Go to http://www.regulations.gov and search for Docket ID NRC-2015-0234.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Draft NUREG/CR-7209, “A Compendium of Spent Fuel Transportation Package Response Analyses to Severe Fire Accident Scenarios,” is available in ADAMS under Accession No. ML16015A016.

• NRC's PDR: You may examine and purchase copies of public documents at the NRC's PDR, Room O1-F21, One White Flint North, 11555 Rockville Pike, Rockville, Maryland 20852.

B. Submitting Comments

Please include Docket ID NRC-2015-0234 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC is issuing draft NUREG/CR-7209, “A Compendium of Spent Fuel Transportation Package Response Analyses to Severe Fire Accident Scenarios.” This report summarizes studies of truck and rail transport accidents involving fires, relative to regulatory requirements for shipment of commercial spent nuclear fuel (SNF). The fire accident scenarios were based on the most severe historical railway and roadway fires in terms of their potential impact on SNF containers. The accident scenarios that were analyzed include one railway tunnel fire, two roadway tunnel fires, and one roadway enclosed overpass fire. The combined summary of this work demonstrates that the current NRC regulations and packaging standards provide a high degree of protection to the public health and safety against release of radioactive material in real-world transportation accidents, were such events to involve SNF containers.

The purpose of this notice is to provide the public with an opportunity to review and provide comments on draft NUREG/CR-7209. Any comments received will be considered in the final version or subsequent revisions of the draft NUREG/CR.

Dated at Rockville, Maryland, this 21 day of January, 2016.
For the Nuclear Regulatory Commission.
Christian Araguas,
Chief, Containment, Structural, and Thermal Branch, Division of Spent Fuel Management, Office of Nuclear Materials Safety and Safeguards.

[FR Doc. 2016-01654 Filed 1-26-16; 8:45 am]

BILLING CODE 7590-01-P